DEPARTMENT OF HEALTH AND HUMAN SERVICES

Centers for Disease Control and Prevention

[60Day-14-0909]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Leroy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Diabetes Prevention Recognition Program (DPRP) (OMB No. 0920-0909, exp. 11/30/2014)—Revision—National Center for Chronic Disease Prevention and Health Promotion (NCCDPHP), Centers for Disease Control and Prevention (CDC).

Background and Brief Description

Evidence from efficacy and effectiveness research studies has shown that lifestyle modifications leading to weight loss and increased physical activity can prevent or delay type 2 diabetes in individuals with prediabetes or those at high risk of developing diabetes. To translate these research findings into practice, section 399V-3 of Public Law 111-148, directed Centers for Disease Control “to determine eligibility of entities to deliver community-based type 2 diabetes prevention services,” monitor and evaluate the services, and provide technical assistance. To this end, CDC's Division of Diabetes Translation (DDT) established and administers the Diabetes Prevention Recognition Program (DPRP), which recognizes organizations that deliver diabetes prevention programs according to requirements set forth in the “Centers for Disease Control and Prevention Recognition Program Standards and Operating Procedures” (DPRP Standards). Two levels of recognition are provided: Pending recognition, for new applicants that have submitted an application and meet eligibility criteria defined by the DPRP Standards, and Full recognition, for programs that have demonstrated effectiveness according to DPRP standards. DDT maintains a public registry of these organizations, which can be used by people at high risk of type 2 diabetes, their health care providers, and health payers to locate organizations that offer DPRP-recognized diabetes prevention programs or are in the processing of obtaining recognition through the DPRP.

In 2011, CDC received Office of Management and Budget (OMB) approval to collect information needed to administer the DPRP (CDC Diabetes Prevention Recognition Program, OMB No. 0920-0909, exp. 11/30/2014). Two types of information are collected from organizations seeking DPRP recognition: Application data and evaluation data. The one-time application form can be completed on-line at any time. In addition, organizations submit de-identified process and outcome evaluation data to CDC electronically twice per year. The due dates for these submissions are determined by the date of the organization's initial application. CDC uses the process and outcome data to monitor and evaluate program effectiveness and to provide targeted technical assistance to applicants.

CDC requests an additional three years of OMB approval to continue collecting the information needed to administer the DPRP. Based on experience with the DPRP from 2011-2014, and feedback from applicant organizations and internal and external partners, CDC plans to revise the DPRP Standards and the associated information collection. A key change relates to incorporation of a new mode of service delivery. Because future programs will be allowed to deliver lifestyle programs in a virtual or electronic mode, DPRP requirements for hour-long sessions and written materials for participants have been dropped. A new program mode data element (in-person, virtual, other) will be added to the DPRP application form to facilitate the identification and evaluation of programs, by mode. This information will also be published in the DPRP registry. Additionally, CDC plans to initiate the following changes in the data elements collected: (1) Add fields, if applicable, for contact information for an additional organizational contact and data preparer to the application form. These additional organization contacts are necessary to facilitate communication in light of a large volume of turnover in recognized organizations and to enable DPRP staff to provide technical assistance directly to the data preparer. (2) Add Participant State [of residence] to the evaluation data. This information will allow DPRP to capture the reach of virtual programs and allow for reporting by state or region. (3) Change the Core Course Code to Class Code. This change will allow DPRP to track each one-year lifestyle program when participants move from one participant group to another, even when the change involves a different mode of delivery. (4) Simplify the codes for Participation Prediabetes Determination by reducing the number of required responses from five to three. (5) Discontinue the collection of the Location Code, Lifestyle Coach ID, Session Type and Session ID.

Additional changes to the DPRP Standards or DPRP information collection may be requested during the period of the Revision request, as CDC continues discussions with recognized programs and potential applicants and reviews results from ongoing studies.

During the period of this Revision, CDC estimates receipt of approximately 350 DPRP application forms per year. The estimated burden per response is one hour. In addition, CDC estimates receipt of semi-annual evaluation data submissions from 1,200 organizations. Evaluation data will be received from a mix of new DPRP applicant organizations as well as previous applicants whose performance is being assessed for compliance with the DPRP Standards. The estimated burden per response is one hour. The estimated burden per response is modest since the information requested for DPRP recognition is routinely collected by most organizations that deliver lifestyle programs.

Participation in the DPRP is voluntary, and there are no costs to respondents other than their time.

Estimated Annualized Burden Hours
Type of respondent | Form name | Number of respondents | Number of responses per respondent | Avg. burden per response (in hr) | Total burden (in hr)
Organizations that deliver type 2 diabetes prevention programs | DPRP Application Form | 350 | 1 | 1 | 350
| DPRP Evaluation Data | 1,200 | 2 | 1 | 2,400
Total |  |  |  |  | 2,750

Leroy A. Richardson,
Chief, Information Collection Review Office, Office of Scientific Integrity, Office of the Associate Director for Science, Office of the Director, Centers for Disease Control and Prevention.

[FR Doc. 2014-08170 Filed 4-10-14; 8:45 am]

BILLING CODE 4163-18-P